SMALL BUSINESS ADMINISTRATION

Region VIII: Wyoming Regulatory Fairness Board; Public Hearing

The Small Business Administration Region VIII Wyoming Regulatory Fairness Board and the SBA Office of the National Ombudsman, will hold a Public Hearing Monday, October 29, 2001 at 8:30 a.m. at the Best Western Dunmar Inn, 1601 Harrison Dr. (Highway 30 West), Evanston, Wyoming 82930, phone (307) 789-3770, to receive comments and testimony from small business owners and representatives of trade associations concerning regulatory enforcement or compliance actions taken by federal agencies.

Anyone wishing to make an oral presentation must contact Mr. Mahlon Sorensen, Regulatory Fairness Coordinator, in writing by letter or fax no later than October 22, 2001, in order to put on the agenda. Mahlon Sorensen, Regulatory Fairness Coordinator, Wyoming District Office, U.S. Small Business Administration, 100 East “B” Street, Suite 4001, Casper, Wyoming 82601, (307) 261-6503 phone (307) 261 6535 fax.

Steve Tupper,
Committee Management Office.

[FR Doc. 01-26330 Filed 10-18-01; 8:45 am]

BILLING CODE 8025-01-P